FEDERAL COMMUNICATIONS COMMISSION

Sunshine Act Meeting, Open Commission Meeting, Tuesday, September 26, 2006

September 19, 2006.

The Federal Communications Commission will hold an Open Meeting on the subjects listed below on Tuesday, September 26, 2006, which is scheduled to commence at in Room TW-C305, at 445 12th Street, SW., Washington, DC.

Item No. | Bureau | Subject
1 | Wireless Tele-Communications | Title: Implementation of Section 6002(b) of the Omnibus Budget Reconciliation Act of 1993 (WT Docket No. 06-17) and Annual Report and Analysis of Competitive Market Conditions with Respect to Commercial Mobile Services.
|  | Summary: The Commission will consider an Eleventh Report concerning the annual report on the competitive market conditions with respect to Commercial Mobile Radio Services (CMRS).
2 | Media | Title: Children's Television Obligations of Digital Television Broadcasters (MM Docket No. 00-167).
|  | Summary: The Commission will consider a Second Order on Reconsideration and Second Report and Order concerning children's television obligations.
3 | Wireline Competition | Title: Rural Health Care Support Mechanism (WC Docket No. 02-60).
|  | Summary: The Commission will consider an Order concerning how the rural health care funding mechanism can be used to enhance public and non-public health care providers' access to advanced telecommunications and information services.
4 | Public Safety and Homeland Security | The Public Safety and Homeland Security Bureau will present a report regarding the launch of the new Bureau.

Open captioning will be provided for this event. Other reasonable accommodations for people with disabilities are available upon request. Include a description of the accommodation you will need including as much detail as you can. Also include a way we can contact you if we need more information. Make your request as early as possible; please allow at least 5 days advance notice. Last minute requests will be accepted, but may be impossible to fill. Send an e-mail to: fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC's Audio/Video Events Web page at http://www.fcc.gov/realaudio.

For a fee this meeting can be viewed live over George Mason University's Capitol Connection. The Capitol Connection also will carry the meeting live via the Internet. To purchase these services call (703) 993-3100 or go to http://www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Federal Communications Commission.
Marlene H. Dortch,
Secretary.

[FR Doc. 06-8293 Filed 9-22-06; 1:14 pm]

BILLING CODE 6712-01-P